NATIONAL AERONAUTICS AND SPACE ADMINISTRATION

14 CFR Ch. V

Regulatory Agenda

AGENCY: National Aeronautics and Space Administration (NASA).

ACTION: Semiannual regulatory agenda.

SUMMARY: NASA's regulatory agenda describes those regulations being considered for development or amendment by NASA, the need and legal basis for the actions being considered, the name and telephone number of the knowledgeable official, whether a regulatory analysis is required, and the status of regulations previously reported.

ADDRESSES: Deputy Associate Administrator, Office Mission Support Directorate, NASA Headquarters, Washington, DC 20546.

FOR FURTHER INFORMATION CONTACT: Cheryl E. Parker, (202) 358-0252.

SUPPLEMENTARY INFORMATION: OMB guidelines dated February 23, 2015, “Spring 2015 Unified Agenda of Federal Regulatory and Deregulatory Actions,” require a regulatory agenda of those regulations under development and review to be published in the Federal Register each spring and fall.

Dated: March 23, 2015.
Krista Paquin,
Deputy Associate Administrator, Office of the Mission Support Directorate.

National Aeronautics and Space Administration—Proposed Rule Stage
Sequence No. | Title | Regulation Identifier No.
220 | NASA FAR Supplement, Safety and Health Measures and Mishap Reporting (Section 610 Review) | 2700-AE16
221 | NASA FAR Supplement Drug and Alcohol Free Workforce (Section 610 Review) | 2700-AE17

National Aeronautics and Space Administration—Final Rule Stage
Sequence No. | Title | Regulation Identifier No.
222 | Collection of Civil Claims of the United States Arising Out of the Activities of NASA (Section 610 Review) | 2700-AD83
223 | Discrimination on Basis of Disability in Federally Assisted Programs and Activities (Section 610 Review) | 2700-AD85

NATIONAL AERONAUTICS AND SPACE ADMINISTRATION (NASA)

Proposed Rule Stage

220. NASA FAR Supplement, Safety and Health Measures and Mishap Reporting (Section 610 Review)

Legal Authority: Not Yet Determined

Abstract: This rule revises the NASA FAR Supplement (NFS) to change the title of clause 1852.223-70 to better reflect its content and also to update the clause to include current safety requirements and delete obsolete coverage.

Timetable:

Action | Date | FR Cite
NPRM | 07/00/15

Regulatory Flexibility Analysis Required: No.

Agency Contact: Marilyn Chambers, Program Analyst, Office of Procurement, National Aeronautics and Space Administration, 300 E Street SW., Washington, DC 20746, Phone: 202 358-5154, Email: marilyn.chambers@nasa.gov.

RIN: 2700-AE16

221. NASA FAR Supplement Drug and Alcohol Free Workforce (Section 610 Review)

Legal Authority: 51 U.S.C. 20113(c)

Abstract: NASA is proposing to amend the NASA FAR Supplement (NFS) to remove requirements related to the discontinued Space Flight Mission Critical Systems Personnel Reliability Program and to revise requirements related to contractor drug and alcohol testing.

Timetable:

Action | Date | FR Cite
NPRM | 07/00/15

Regulatory Flexibility Analysis Required: No.

Agency Contact: Marilyn Chambers, Program Analyst, Office of Procurement, National Aeronautics and Space Administration, 300 E Street SW., Washington, DC 20746, Phone: 202 358-5154, Email: marilyn.chambers@nasa.gov.

RIN: 2700-AE17

NATIONAL AERONAUTICS AND SPACE ADMINISTRATION (NASA)

Final Rule Stage

222. Collection of Civil Claims of the United States Arising Out of the Activities of NASA (Section 610 Review)

Legal Authority: 31 U.S.C. 3711

Abstract: This Direct Final Rule amends 14 CFR 1261 subpart 4 to make non-substantive changes in the amount to collect installment payments from $20000 to $100000 to align with title 31 subchapter II Claims of the United States Government section 3711 (a)(2) Collection and Compromise. Subpart 4 prescribes standards for the administrative collection compromise suspension or termination of collection and referral to the Government Accountability Office (GAO) and/or to the Department of Justice for litigation of civil claims as defined by 31 U.S.C. 3701(b) arising out of the activities of designated NASA officials authorized to effect actions and requires compliance with GAO/DOJ joint regulations at 4 CFR parts 101-105 and the Office of Personnel Management regulations at 5 CFR part 550 subpart K. There are also some statute citation and terminology updates. The revisions to this rule are part of NASA's retrospective plan under Executive Order 13563 completed in August 2011. NASA's full plan can be accessed at: http://www.nasa.gov/open.

Timetable:

Action | Date | FR Cite
Direct Final Rule | 07/00/15

Regulatory Flexibility Analysis Required: No.

Agency Contact: Laura Burns, Law Librarian, National Aeronautics and Space Administration, Office of the General Counsel, 300 E Street SW., Washington, DC 20546, Phone: 202 358-2078, Fax: 202 358-4955, Email: laura.burns-1@nasa.gov.

RIN: 2700-AD83

223. Discrimination on Basis of Disability in Federally Assisted Programs and Activities (Section 610 Review)

Legal Authority: 29 U.S.C. 794, sec 504 of the Rehabilitation Act of 1973, amended

Abstract: This proposed rule will amend 14 CFR 1251 to align with the Department of Justice's (DOJ) implementing regulations incorporating the new accessibility standards. Other amendments include updates to organizational information, use of the term “disability” in lieu of the term “handicap,” changes to definitions, and other sections based on the Americans With Disabilities Act of 2008. Part 1251 implements the federally assisted provisions of section 504 of the Rehabilitation Act of 1973 (section 504), as amended, 29 U.S.C. 794, which prohibits discrimination on the basis of disability by recipients of Federal Financial Assistance from NASA. Under Executive Order 12250, the United States Attorney General has the authority to coordinate the implementation and enforcement of a variety of civil rights statutes by Federal agencies such as NASA, including section 504. The revisions to this rule are part of NASA's retrospective plan under Executive Order 13563, completed in August 2011. NASA's full plan can be accessed at: http://www.nasa.gov/open.

Timetable:

Action | Date | FR Cite
NPRM | 11/13/14 | 79 FR 67384
NPRM Comment Period End | 12/15/14
Final Rule | 07/00/15

Regulatory Flexibility Analysis Required: No.

Agency Contact: Robert W Cosgrove, External Compliance Manager, National Aeronautics and Space Administration, 300 E Street SW., Washington, DC 20546, Phone: 202 358-0446, Fax: 202 358-3336, Email: robert.cosgrove@nasa.gov.

RIN: 2700-AD85

[FR Doc. 2015-14370 Filed 6-17-15; 8:45 am]

BILLING CODE 7510-13-P